DEPARTMENT OF THE INTERIOR

National Park Service

Boston African American National Historic Site, Suffolk County, MA; Notice of Intent To Prepare an Environmental Impact Statement and Notice of Public Meetings

In accordance with the National Environmental Policy Act of 1969 (Pub. L. 91-109 section 102(c)), the National Park Service (NPS) is preparing an Environmental Impact Statement (EIS) for the General Management Plan for Boston African American National Historic Site (NHS), located in the city of Boston, Suffolk County, Massachusetts. The purpose of the EIS is to assess the impacts of alternative management strategies that will be described in the General Management Plan for Boston African American NHS. A range of alternatives will be formulated for natural and cultural resource protection, visitor use and interpretation, facilities development, and operations.

The NPS will hold a series of public meetings in the spring and summer of 2001 which will provide an opportunity for public input into the scoping for the GMP/EIS. The date, time, and location of these meetings will be announced through local media as they will be held at various places in the Boston area. The purpose of these meetings is to obtain both written and verbal comments concerning the future direction and development of Boston African American NHS. Those persons who wish to comment verbally or in writing should contact Kenneth Heidelberg, Site Manager, Boston African American National Historic Site, 14 Beacon Street, Suite 506, Boston, MA 02108 (617) 742-5415 or Ruth Raphael, Park Planner, Boston National Historical Park, Charlestown Navy Yard, Boston, Massachusetts 02129-4543, (617) 242-5691. The draft GMP/EIS is expected to be completed and available for public review in Summer 2002. After public and interagency review of the draft document comments will be considered, and a final EIS will be prepared, followed by a Record of Decision.

Dated: March 22, 2001.
Peter Steele,
Superintendent, Boston National Historical Park.

[FR Doc. 01-9818 Filed 4-19-01; 8:45 am]

BILLING CODE 4310-70-P